DEPARTMENT OF TRANSPORTATION

Federal Aviation Administration

Notice of Intent To Rule on Request To Release Airport Property at the Lehigh Valley International Airport (ABE), Allentown, Pennsylvania

AGENCY: Federal Aviation Administration (FAA), DOT.

ACTION: Notice of request to release airport property for non-aeronautical purposes.

SUMMARY: The FAA proposes to rule and invite public comment on the release of land for non-aeronautical purposes at the Lehigh Valley International Airport (ABE), Allentown, Pennsylvania under the provision 49 U.P.C. 47125(a).

DATES: Comments must be received on or before July 6, 2015.

ADDRESSES: Comments on this application may be mailed or delivered to the following address:

Ryan Meyer, Senior Aviation Planner, Lehigh Valley International Airport, 3311 Airport Road, Allentown, Pennsylvania 18109,

and at the FAA Harrisburg Airports District Office:

Lori K. Pagnanelli, Manager, Harrisburg Airports District Office, 3905 Hartzdale Dr., Suite 508, Camp Hill, PA 17011.

FOR FURTHER INFORMATION CONTACT: Rick Harner, Civil Engineer, Harrisburg Airports District Office, location listed above.

The request to release property may be reviewed in person at this same location.

SUPPLEMENTARY INFORMATION: The FAA invites public comment on the request to release airport property for non-aeronautical purposes at the Lehigh Valley International Airport under the provisions of Section 47125(a) of Title 49 U.S.C. On May 27, 2015, the FAA determined that the request to release airport property for non-aeronautical purposes at the Lehigh Valley International Airport (ABE), Pennsylvania, submitted by the Lehigh Northampton Airport Authority (Authority), met the procedural requirements. Final release of the property is subject to FAA's NEPA determination.

The following is a brief overview of the request:

The Authority requests the release of a portion of airport property totaling 260 acres, which is no longer needed for aeronautical purposes. Of the total 260 acres, 248 acres are part of Parcel H-1, and 12 acres are part of Parcel X-2. These parcels are located in Allen Township, and were originally included as part of larger property purchased with federal funds over multiple AIP grants.

The 260 acres requested for non-aeronautical use, are to be released to the Rockefeller Group Development Corporation (Rockefeller Group), 500 International Drive North, Suite 345, Mt. Olive, NJ 07828. The property is located in the northwest corner of existing airport property. Rockefeller Group is proposing to sell the 260 acre property to FedEx Ground for the construction of a ground transportation facility. The undeveloped property is located in Allen Township at the intersection of Willowbrook Road and Race Street. As shown on the Airport Layout Plan, the airport property does not serve an aeronautical purpose and is not needed for current or future airport development. The property was part of an inverse condemnation judgment against the Authority. The proceeds from the Fair Market Value (FMV) sale of the 260 acres of property will be used to pay off the judgment and the remaining balance will be placed into an identifiable interest bearing account to be used for eligible airport development purposes, as outlined in FAA Order 5190.6B, Airport Compliance Manual.

Any person may inspect the request by appointment at the FAA office address listed above. Interested persons are invited to comment on the proposed release. All comments will be considered by the FAA to the extent practicable.

Issued in Camp Hill, Pennsylvania, May 28, 2015.
Lori K. Pagnanelli,
Manager, Harrisburg Airports District Office.

[FR Doc. 2015-13501 Filed 6-3-15; 8:45 am]

BILLING CODE 4910-13-P